DEPARTMENT OF COMMERCE

National Oceanic and Atmospheric Administration

50 CFR Part 648

[Docket No. 010319075-1217-02; I.D. 122905B]

Fisheries of the Northeastern United States; Tilefish Fishery; Adjustment to the Fishing Year 2006 Tilefish Full-time Tier 1 Permit Category Commercial Quota

AGENCY: National Marine Fisheries Service (NMFS), National Oceanic and Atmospheric Administration (NOAA), Commerce.

ACTION: Temporary rule; commercial quota adjustment.

SUMMARY: NMFS announces that the Administrator, Northeast Region, NMFS (Regional Administrator) has determined that the quota for the tilefish Full-time Tier 1 permit category has been exceeded for fishing year (FY) 2005, requiring an adjustment of the Full-time Tier 1 permit category quota for FY 2006. This action complies with the Fishery Management Plan for the Tilefish Fishery (FMP) and is intended to continue the rebuilding program in the FMP by taking into account previous overages of the tilefish quota.

DATES: Effective February 13, 2006, through October 31, 2006.

FOR FURTHER INFORMATION CONTACT: Brian R. Hooker, Fishery Policy Analyst, (978) 281-9220.

SUPPLEMENTARY INFORMATION: The regulations at 50 CFR 648.290(c) state that any overages of the quota for any tilefish limited access permit category that occur in a given fishing year will be subtracted from the quota for that category in the following fishing year. This section also specifies that, if an adjustment is required, a notification of adjustment of the quota will be published in the Federal Register.

The tilefish quota of 1,250,865 lb (567,383 kg) for the limited access Full-time Tier 1 permit category (Category A) is adjusted for FY 2006 through this action. Based upon vessel reports and other information available as of December 1, 2005, FY 2005 tilefish landings for Category A were 1,251,058 lb (567,471 kg). Therefore, an overage of 193 lb (88 kg) is being deducted from the FY 2006 Category A quota through this action, which results in an adjusted quota, rounded to the nearest whole pound, of 1,250,672 lb (567,295 kg) for FY 2006.

The other tilefish permit categories did not exceed their respective quotas in FY 2005. Therefore, the quotas and trip limits associated with these permit categories do not need to be adjusted. The quotas for the Full-time Tier 2 and Part-time permit categories remain 284,288 lb (128,951 kg) and 360,098 lb (163,338 kg), respectively, and the Incidental catch trip limit is 300 lb (136 kg) for FY 2006.

The FY 2005 tilefish Full-time Tier 1 permit category quota, as well as landings, and the resulting overage for this permit category are presented in Table 1.

Table 1. Tilefish Full-time Tier 1 Category FY 2005 Landings and Overage
Permit Category | 2005 Quota: lb | 2005 Quota: kg¹ | 2005 Landings: lb | 2005 Landings: kg¹ | 2005 Overage: lb | 2005 Overage: kg¹
Full-time Tier 1 | 1,250,865 | 567,383 | 1,251,058 | 567,471 | 193 | 88
¹Kilograms are as converted from pounds, and may not necessarily add due to rounding.

The resulting adjusted FY 2006 tilefish Full-time Tier 1 permit category commercial quota is presented in Table 2.

Table 2. Tilefish Full-time Tier 1 Category Adjusted FY 2006 Quota
Permit Category | 2006 Initial Quota: lb | 2006 Initial Quota: kg¹ | 2006 Adjusted Quota: lb | 2006 Adjusted Quota: kg¹
Full-time Tier 1 | 1,250,865 | 567,383 | 1,250,672 | 567,295
¹Kilograms are as converted from pounds, and may not necessarily add due to rounding.

Classification

This action is required by 50 CFR part 648 and is exempt from review under Executive Order 12866.

Pursuant to 5 U.S.C. 553(b)(B), the Assistant Administrator finds good cause to waive prior notice and opportunity for public comment as notice and comment would be impracticable and unnecessary. The regulations under § 648.290(c) requires the Regional Administrator to subtract any overage of the quota for any tilefish limited access category from the quota for that category in the following fishing year. Accordingly, the action being taken by this temporary rule is non-discretionary. There is no discretion to modify this action based on public comment at this time.

The rate of harvest of tilefish by the Full-time Tier 1 Category is updated weekly on the internet at http://www.nero.noaa.gov. Accordingly, the public is able to obtain information that would provide at least some advanced notice of a potential action as a result of a tilefish quota being exceeded during the 2005 fishing year. Further, the potential for this action was considered and open to public comment during the development of the tilefish fishery management plan. Therefore, any negative effect the waiving of public comment may have on the public is mitigated by these factors.

Authority: 16 U.S.C. 1801 et seq.

Dated: January 6, 2006.
John H. Dunnigan
Director, Office of Sustainable Fisheries, National Marine Fisheries Service.

[FR Doc. 06-291 Filed 1-11-06; 8:45 am]

BILLING CODE 3510-22-S